DEPARTMENT OF COMMERCE

National Oceanic and Atmospheric Administration

RIN 0648-XE561

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow commercial fishing vessels to fish outside of the limited access scallop regulations in support of research conducted by the Coonamessett Farm Foundation. These exemptions are in support of research conducted on trips to test gear modifications for bycatch reduction in the scallop dredge fishery.

Regulations under the Magnuson-Stevens Fishery Conservation and Management Act require publication of this notification to provide interested parties the opportunity to comment on applications for proposed Exempted Fishing Permits.

DATES: Comments must be received on or before April 26, 2016

ADDRESSES: You may submit written comments by any of the following methods:

• Email: nmfs.gar.efp@noaa.gov. Include in the subject line “CFF Compensation Fishing Gear Research EFP.”

• Mail: John K. Bullard, Regional Administrator, NMFS, Greater Atlantic Regional Fisheries Office, 55 Great Republic Drive, Gloucester, MA 01930. Mark the outside of the envelope “Comments on CFF Compensation Fishing Gear Research EFP.”

• Fax: (978) 281-9135.

FOR FURTHER INFORMATION CONTACT: Shannah Jaburek, Fisheries Management Specialist, 978-282-8456.

SUPPLEMENTARY INFORMATION: Coonamessett Farm Foundation (CFF) submitted a complete application for an Exempted Fishing Permit (EFP) on March 15, 2016, that would allow gear research to be conducted on vessels fishing under compensation fishing trips associated with five 2016 Scallop Research Set-Aside (RSA) projects submitted by the Coonamessett Farm Foundation that have been favorably reviewed. The exemptions would allow six commercial fishing vessels to exceed the crew size regulations at 50 CFR 648.51(c) in order to place a researcher on the vessel, and temporarily exempt the participating vessels from possession limits and minimum size requirements specified in 50 CFR part 648, subsections B and D through O, for sampling purposes only. Any fishing activity conducted outside the scope of the exempted fishing activity would be prohibited, including landing fish in excess of a possession limit or below the minimum size.

Experimental fishing activity would test gear modifications in an attempt to reduce finfish bycatch in the dredge fishery. The gear modifications that would be tested adhere to current scallop gear regulations and include: A no-chaffing gear dredge bag; a five-row apron without chaffing gear and a 1.5:1 twine top hanging ratio; and a “daylight skirt,” which would replace the rings in the skirt with three rows of 12-inch (30.48-cm) square mesh and chain. All trips would take place in scallop fishing areas open to the entire Atlantic sea scallop fishery.

Exemption from crew size limits is needed because a research technician would accompany vessels on the compensation fishing trips to collect catch data associated with different dredge modifications. The crew size exemption would be for approximately 40 days-at-sea and must be used in conjunction with a valid compensation fishing letter of authorization. The additional crew would only engage in data collection activities, and would not process catch to be landed for sale. Exemption from possession limit and minimum sizes would support catch sampling activities, and ensure the vessel is not in conflict with possession regulations while collecting catch data. All catch above a possession limit or below a minimum size would be discarded as soon as practicable following data collection.

For all trips, scallop catch would be evaluated by the number of baskets caught and a total catch weight would be obtained by the researcher. Total weight of bycatch species and individual measurements to the nearest centimeter would also be obtained by the researcher. If the volume of the catch is large, subsampling protocols would be necessary. All bycatch would be returned to the sea as soon as practicable following data collection.

All research trips would otherwise be consistent with normal commercial fishing activity and catch would be retained for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 6, 2016.
Emily H. Menashes,
Acting Director, Office of Sustainable Fisheries, National Marine Fisheries Service.

[FR Doc. 2016-08257 Filed 4-8-16; 8:45 am]

BILLING CODE 3510-22-P